DEPARTMENT OF HOMELAND SECURITY

Office of the Secretary

[Docket No. DHS-2004-0023]

Homeland Security Advisory Council

AGENCY: Office of the Secretary, DHS.

ACTION: Notice of Federal Advisory Committee Meeting.

SUMMARY: The Homeland Security Advisory Council (HSAC) will hold a meeting for purposes of (1) receiving reports from Senior Advisory Committees; (2) receiving briefings from DHS staff on Departmental initiatives; and (3) holding roundtable deliberations and discussions among HSAC members.

DATES: The Homeland Security Advisory Council (HSAC) will hold its next meeting in San Diego, CA on Tuesday, December 14, 2004.

ADDRESSES: This meeting will be partially closed; the open portions of the meeting for purposes of (1) above will be held at the Westin Horton Plaza Hotel Library, 910 Broadway Circle, San Diego, CA 92101 from 9:30 a.m. to 11:30 a.m. The closed portions of the meeting, for purposes of (2) and (3) above will be held at the Westin Horton Plaza Hotel Harbor Room, 910 Broadway Circle, San Diego, CA 92101 from 8:30 a.m. to 9:20 a.m. and from 11:30 a.m. to 3:30 p.m.

You may submit comments, identified by DHS-2004-0023, by one of the following methods:

• EPA Federal Partner EDOCKET Web site: http://www.epa.gov/feddocket. Follow instructions for submitting comments on the Web site. The Department of Homeland Security has joined the Environmental Protection Agency (EPA) online public docket and comment system on its Partner Electronic Docket System (Partner EDOCKET). The Department of Homeland Security and its agencies (excluding the United States Coast Guard and Transportation Security Administration) will use the EPA Federal Partner EDOCKET system. The USCG and TSA [legacy Department of Transportation (DOT) agencies] will continue to use the DOT Docket Management System until full migration to the electronic rulemaking federal docket management system in 2005.

• Federal eRulemaking Portal: http://www.regulations.gov. Follow the instructions for submitting comments.

• E-mail: HSAC@dhs.gov. Include docket number in the subject line of the message.

• Fax: (202) 772-9718.

• Mail: Mike Miron, Homeland Security Advisory Council, Department of Homeland Security, Washington, DC 20528.

Instructions: All submissions received must include the agency name and docket number for this rulemaking. All comments received will be posted without change to www.epa.gov/feddocket, including any personal information provided.

Docket: For access to the docket to read background documents or comments received, go to http://www.epa.gov/feddocket. You may also access the Federal eRulemaking Portal at http://www.regulations.gov.

FOR FURTHER INFORMATION CONTACT: For additional information concerning the meeting, please contact Rich Davis, Jeff Gaynor, Mike Miron, or Candice Stoltz of the HSAC staff via email at HSAC@dhs.gov, or via phone at 202-692-4283.

SUPPLEMENTARY INFORMATION: Public Attendance: A limited number of members of the public may register to attend the public session on a first-come, first-served basis per the procedures that follow. Security requires that any member of the public who wishes to attend the public session provide his or her name, social security number, and date of birth no later than 5 p.m., EST, Tuesday, December 7, 2004 to the Responsible Agency Officials (listed above) via email at HSAC@dhs.gov, or via phone at (202) 692-4283. Persons with disabilities who require special assistance should indicate so in their admittance request and are encouraged to indicate their desires to attend as early as possible. Photo identification will be required for entry into the public session, and everyone in attendance must be present and seated by 9:15 a.m.

Basis for Closure: In accordance with Section 10(d) of the Federal Advisory Committee Act, Public Law 92-463, as amended (5 U.S.C. App. 2), the Secretary has issued a determination that portions of this HSAC meeting will concern matters sensitive to homeland security within the meaning of 5 U.S.C. 552b(c)(7) and (c)(9)(B) and that, accordingly, these portions of the meeting will be closed to the public.

Dated: November 18, 2004.
Tom Ridge,
Secretary of Homeland Security.

[FR Doc. 04-26057 Filed 11-23-04; 8:45 am]

BILLING CODE 4410-10-P